CONSUMER PRODUCT SAFETY COMMISSION

[Docket No. CPSC-2024-0030]

Notice of Availability and Request for Comment: Public Playground Handbook Update

AGENCY: Consumer Product Safety Commission.

ACTION: Notice of availability and request for comment.

SUMMARY: The U.S. Consumer Product Safety Commission (Commission or CPSC) is announcing the availability of draft updates to its “Public Playground Safety Handbook.”

DATES: Comments must be received by December 2, 2024.

ADDRESSES: You can submit comments, identified by Docket No. CPSC-2024-0030, by any of the following methods:

Electronic Submissions: Submit electronic comments to the Federal eRulemaking Portal at: https://www.regulations.gov. Follow the instructions for submitting comments. Do not submit through this website: confidential business information, trade secret information, or other sensitive or protected information that you do not want to be available to the public. CPSC typically does not accept comments submitted by email, except as described below.

Mail/Hand Delivery/Courier/Confidential Written Submissions: CPSC encourages you to submit electronic comments by using the Federal eRulemaking Portal. You may, however, submit comments by mail, hand delivery, or courier to: Office of the Secretary, Consumer Product Safety Commission, 4330 East West Highway, Bethesda, MD 20814; telephone: (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to: https://www.regulations.gov. Do not submit to this website: confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2024-0030, into the “Search” box, and follow the prompts.

FOR FURTHER INFORMATION CONTACT: Daniel Taxier, Children's Program Manager, Division of Mechanical and Combustion Engineering, U.S. Consumer Product Safety Commission, 5 Research Place, Rockville, MD 20850-3213; email: dtaxier@cpsc.gov; telephone: (301) 987-2211.

SUPPLEMENTARY INFORMATION: The U.S. Consumer Product Safety Commission published the first Handbook for Public Playground Safety (the Handbook) in 1981. This original document was a two-volume set containing technical guidance intended to reduce deaths and injuries to children associated with playground equipment. In 1991, the Handbook was revised to a single volume, which contained recommendations based on a COMSIS Corporation report to the CPSC.¹ Also in 1991, the first ASTM International (ASTM) standard for playground safety, F1292: Standard Specification for Impact Attenuation of Surface Systems Under and Around Playground Equipment, was published. In 1993, ASTM F1487: Standard Consumer Safety Performance Specification for Playground Equipment for Public Use was published. CPSC published minor revisions to the Handbook in 1994. In 1997, the Handbook was updated based on ASTM F1487, a playground safety roundtable meeting held in October of 1996, and comments received in response to a May 1997 CPSC request.

¹ The 1990 COMSIS report, Development of Human Factors Criteria for Playground Equipment Safety, is available in six parts on the CPSC website. Part 1 is available at: https://www.cpsc.gov/content/Development-of-Human-Factors-Criteria-for-Playground-Equipment-Safety-Part-1. Part 2 is available at: https://www.cpsc.gov/content/Development-of-Human-Factors-Criteria-for-Playground-Equipment-Safety-Part-2. Part 3 is available at: https://www.cpsc.gov/content/Development-of-Human-Factors-Criteria-for-Playground-Equipment-Safety-Part-3. Part 4 is available at: https://www.cpsc.gov/content/development-human-factors-criteria-playground-equipment-safety-part-4. Part 5 is available at: https://www.cpsc.gov/content/Development-of-Human-Factors-Criteria-for-Playground-Equipment-Safety-Part-5. Part 6 is available at: https://www.cpsc.gov/content/development-human-factors-criteria-playground-equipment-safety-part-6.

Due to the lack of a Commission quorum at the time, 2008 revisions to the Handbook were released as a draft staff document. Later in 2008, members of ASTM's voluntary standards committee on playground equipment and the International Play Equipment Manufacturers Association (IPEMA) identified areas where the voluntary standards and the Handbook did not align. In 2010, CPSC published a revised the Handbook that resolved many of these issues.

Since 2010, ASTM has published new and revised public playground standards,² and new materials and equipment have been installed in playgrounds. Additionally, members of ASTM, the National Program for Playground Safety (NPPS), IPEMA, and members of the general public have requested clarifications and recommended an update to the Handbook. Based on the current editions of the relevant ASTM standards, feedback from the public, and comments from ASTM and NPPS, CPSC is publishing a revised draft Handbook with a focus on improvements to safety.

² See section 1.4.1 of the draft Handbook for a list of relevant standards.

The staff memorandum accompanying the draft Handbook, available at https://cpsc.gov/s3fs-public/BallotVote-Public-Playground-Handbook-Update-2.pdf?, summarizes major revisions included in the draft. These changes include updated signage and labeling guidance; updated guidance on common hazards for supervisor awareness; references to new impact attenuation testing for suspended elements in ASTM F1487; an updated warning label on potential strangulation hazards; expanded guidance on merry-go-rounds and other spinning equipment, consistent with requirements in ASTM F1487; and several other minor revisions and corrections.

The draft Handbook is intended to provide guidance to childcare personnel, school officials, parks and recreation personnel, equipment purchasers and installers, playground designers, and any other members of the general public (e.g., parents and school groups) concerned with playground safety and interested in evaluating their respective playgrounds. The draft Handbook also includes references to voluntary standards that contain technical requirements that are primarily intended for use by equipment designers and manufacturers, architects, and any others requiring more technical information. The draft Handbook is a guidance document; it is not a rule and does not establish legally enforceable responsibilities.

The draft Handbook is available on the Commission's website at: https://cpsc.gov/s3fs-public/BallotVote-Public-Playground-Handbook-Update-2.pdf? and from the Commission's Office of the Secretary at the location listed in the ADDRESSES section of this notice.

The Commission invites comment on the document, “Public Playground Safety Handbook.” Comments should be submitted by December 2, 2024. Information on how to submit comments can be found in the ADDRESSES section of this notice.

Alberta E. Mills,
Secretary, Consumer Product Safety Commission.

[FR Doc. 2024-22433 Filed 9-30-24; 8:45 am]

BILLING CODE 6355-01-P